DEPARTMENT OF COMMERCE

Patent and Trademark Office

Submission for OMB Review; Comment Request

The United States Patent and Trademark Office (USPTO) has submitted to the Office of Management and Budget (OMB) for clearance the following proposal for collection of information under the provisions of the Paperwork Reduction Act (44 U.S.C. Chapter 35).

Agency: United States Patent and Trademark Office (USPTO).

Title: Rules for Patent Maintenance Fees.

Form Number(s): PTO/SB/45/47/65/66.

Agency Approval Number: 0651-0016.

Type of Request: Revision of a currently approved collection.

Burden: 30,362 hours annually.

Number of Respondents: 374,706 responses per year.

Avg. Hours Per Response: The USPTO estimates that it will take the public approximately 20 seconds (0.006 hours) to eight hours to complete this information, depending on the form or petition. This includes time to gather the necessary information, prepare the form or petition, and submit the completed request.

Needs and Uses: Under 35 U.S.C. 41 and 37 CFR 1.20(e)-(i) and 1.362-1.378, the USPTO charges maintenance fees for keeping utility patents in force. Maintenance fee payments are due at 3½, 7½, and 11½ years after the date the patent was granted. If the payment of the appropriate maintenance fee is not received within a grace period of six months following each of the above intervals, the patent will expire and no longer be enforceable. The public uses this collection to submit patent maintenance fee payments, to file petitions regarding delayed or refused payments, and to designate an address to be used for fee-related correspondence. The USPTO uses this information to process and record maintenance fee payments, to consider related petitions, and to send fee correspondence to the correct address. This information collection includes forms for submitting a maintenance fee payment, filing a petition to accept an unavoidably or unintentionally delayed maintenance fee payment, and designating a separate address for fee correspondence with the USPTO. The USPTO does not provide an official form for petitions to review refusals to accept payments of maintenance fees prior to patent expiration or for petitions to review refusals to accept delayed payments of maintenance fees in expired patents.

Affected Public: Individuals or households, businesses or other for-profits, not-for-profit institutions, farms, the Federal Government, and state, local or tribal governments.

Frequency: On occasion and three times at four-year intervals following the grant of the patent.

Respondent's Obligation: Required to obtain or retain benefits.

OMB Desk Officer: David Rostker, (202) 395-3897.

Copies of the above information collection proposal can be obtained by any of the following methods:

• E-mail: Susan.Brown@uspto.gov. Include “0651-0016 copy request” in the subject line of the message.

• Fax: 571-273-0112, marked to the attention of Susan Brown.

• Mail: Susan K. Brown, Records Officer, Office of the Chief Information Officer, Architecture, Engineering and Technical Services, Data Architecture and Services Division, U.S. Patent and Trademark Office, P.O. Box 1450, Alexandria, VA 22313-1450.

Written comments and recommendations for the proposed information collection should be sent on or before April 12, 2006, to David Rostker, OMB Desk Officer, Room 10202, New Executive Office Building, 725 17th Street NW., Washington, DC 20503.

Dated: March 3, 2006.
Susan K. Brown,
Records Officer, USPTO, Office of the Chief Information Officer, Architecture, Engineering and Technical Services, Data Architecture and Services Division.

[FR Doc. E6-3503 Filed 3-10-06; 8:45 am]

BILLING CODE 3510-16-P